DEPARTMENT OF HOMELAND SECURITY

U.S. Customs and Border Protection

Transportation Security Administration

19 CFR Chapter I

49 CFR Chapter XII

Notification of Arrival Restrictions Applicable to Flights Carrying Persons Who Have Recently Traveled From or Were Otherwise Present Within the People's Republic of China

AGENCY: U.S. Customs and Border Protection and U.S. Transportation Security Administration, Department of Homeland Security.

ACTION: Notification of arrival restrictions.

SUMMARY: This document announces the decision of the Secretary of the Department of Homeland Security (DHS) to direct all flights to the United States carrying persons who have recently traveled from, or were otherwise present within, the People's Republic of China to arrive at one of the United States airports where the United States Government is focusing public health resources to implement enhanced screening procedures. For purposes of this document, a person has recently traveled from the People's Republic of China if that person has departed from, or was otherwise present within, the People's Republic of China (excluding the special autonomous regions of Hong Kong and Macau) within 14 days of the date of the person's entry or attempted entry into the United States. Also, for purposes of this document, crew, and flights carrying only cargo (i.e., no passengers or non-crew), are excluded from the measures herein.

DATES: The arrival restrictions begin at 5 p.m. EST on Sunday, February 2, 2020; and continue until cancelled or modified by the Secretary of DHS and notification is published in the Federal Register of such cancellation or modification.

FOR FURTHER INFORMATION CONTACT: Alyce Modesto, Office of Field Operations, 202-344-3788.

SUPPLEMENTARY INFORMATION:

Background

The Centers for Disease Control and Prevention (CDC) is closely monitoring an outbreak of respiratory illness caused by a novel (new) coronavirus first identified in Wuhan City, Hubei Province, China. Coronaviruses are a large family of viruses that are common in many different species of animals, including camels, cattle, cats, and bats. Rarely, animal coronaviruses can infect people and then spread between people such as with Middle East Respiratory Syndrome (MERS) and Severe Acute Respiratory Syndrome (SARS).

The potential for widespread transmission of this virus by infected individuals seeking to enter the United States threatens the security of our transportation system and infrastructure, and the national security. In an abundance of caution and to assist in preventing the introduction and spread of this communicable disease in the United States, DHS, in coordination with the CDC and other Federal, state and local agencies charged with protecting the American public, is implementing enhanced arrival protocols to ensure that all travelers with recent travel from the People's Republic of China are provided public health services. Entry screening is part of a layered approach used with other public health measures already in place to detect arriving travelers who are exhibiting overt signs of illness, reporting of ill travelers by air carriers during travel, and referral of ill travelers arriving at a U.S. port of entry by U.S. Customs and Border Protection (CBP) to appropriate public health officials to slow and prevent the spread of communicable disease into the United States.

To ensure that travelers with recent travel from the People's Republic of China are screened, DHS directs that all flights to the United States carrying persons who have recently traveled from, or were otherwise present within, the People's Republic of China arrive at airports where enhanced public health services and protocols are being implemented. While DHS anticipates working with air carriers to identify potential persons from the affected area prior to boarding, air carriers shall comply with the requirements of this document.

Notification of Arrival Restrictions Applicable to All Flights Carrying Persons Who Have Recently Traveled From or Were Otherwise Present Within the People's Republic of China

Pursuant to 19 U.S.C. 1433(c), 19 CFR 122.32, 49 U.S.C. 114, and 49 CFR 1544.305 and 1546.105, DHS has the authority to limit the location where all flights entering the U.S. from abroad may land. Under this authority and effective at 5 p.m. EST on Sunday, February 2, 2020, I hereby direct all operators of aircraft to ensure that all flights carrying persons who have recently traveled from, or were otherwise present within, the People's Republic of China only land at one of the following airports:

• John F. Kennedy International Airport (JFK), New York;

• Chicago O'Hare International Airport (ORD), Illinois;

• San Francisco International Airport (SFO), California;

• Seattle-Tacoma International Airport (SEA), Washington;

• Daniel K. Inouye International Airport (HNL), Hawaii;

• Los Angeles International Airport, (LAX), California; or

• Hartsfield-Jackson Atlanta International Airport (ATL), Georgia.

This direction considers a person to have recently traveled from the People's Republic of China if that person departed from, or was otherwise present within, the People's Republic of China (excluding the special autonomous regions of Hong Kong and Macau) within 14 days of the date of the person's entry or attempted entry into the United States. Also, for purposes of this document, crew, and flights carrying only cargo (i.e., no passengers or non-crew), are excluded from the measures herein. This direction is subject to any changes to the airport landing destination that may be required for aircraft and/or airspace safety as directed by the Federal Aviation Administration.

This list of affected airports may be modified by the Secretary of Homeland Security in consultation with the Secretary of Health and Human Services and the Secretary of Transportation. This list of affected airports may be modified by an updated publication in the Federal Register or by posting an advisory to follow at www.cbp.gov. The restrictions will remain in effect until superseded, modified, or revoked by publication in the Federal Register.

For purposes of this Federal Register document, “United States” means the States of the United States, the District of Columbia, and territories and possessions of the United States (including Puerto Rico, the Virgin Islands, American Samoa, the Northern Mariana Islands, the Trust Territory of the Pacific Islands, and Guam).

Chad F. Wolf
Acting Secretary, U.S. Department of Homeland Security.

[FR Doc. 2020-02318 Filed 1-31-20; 5:15 pm]

BILLING CODE 9111-14-P